DEPARTMENT OF DEFENSE

Department of the Army

Notice of Intent to Grant an Exclusive or Partially Exclusive License to Optical Crossing, Inc.

AGENCY: U.S. Army Research Laboratory, DoD.

ACTION: Notice of intent.

SUMMARY: In compliance with 37 CFR 404 et seq., the Department of the Army hereby gives notice of its intent to grant to Optical Crossings, Inc., a corporation having its principle place of business at 411 N. Central Ave. Suite 70, Glendale, CA 91203, an exclusive or partially exclusive license relative to a patented ARL technology (U.S. Patent # 5,579,331; “Delta-strained quantum-well semiconductor lasers and optical amplifiers”; Shen, et al; November 26, 1996.). Anyone wishing to object to the granting of this license has 60 days from the date of this notice to file written objections along with supporting evidence, if any.

FOR FURTHER INFORMATION CONTACT: Michael D. Rausa, U.S. Army Research Laboratory, Office of Research and Technology Applications, ATTN: AMSRL-CS-TT/Bldg 459, Aberdeen Proving Ground, Maryland 21005-5425, Telephone: (410) 278-5028.

SUPPLEMENTARY INFORMATION: None.

Gregory D. Showalter,
Army Federal Register Liaison Officer.

[FR Doc. 00-27067 Filed 10-19-00; 8:45 am]

BILLING CODE 3710-08-M